DEPARTMENT OF COMMERCE

National Oceanic and Atmospheric Administration

[I.D. 072004B]

Fisheries of the Caribbean, Gulf of Mexico, and South Atlantic; Reef Fish Fishery Management Plan for the Reef Fish Resources of the Gulf of Mexico; Red Snapper; Scoping Hearings

AGENCY: National Marine Fisheries Service (NMFS), National Oceanic and Atmospheric Administration (NOAA), Commerce.

ACTION: Notice of scoping hearings; request for comments.

SUMMARY: The Gulf of Mexico Fishery Management Council (Council) will hold 10 hearings on a scoping document to solicit public input on the alternative that should be used for an amendment that will create an individual fishing quota (IFQ) program for the commercial red snapper fishery.

DATES: The meetings will be held in August 2004. See SUPPLEMENTARY INFORMATION for specific dates, times, and locations.

Public comments received by mail or e-mail that are received in the Council office by 5 p.m., September 3, 2004, will be presented to the Council.

ADDRESSES: See Supplementary Information section for hearing addresses.

Written comments on, and requests for, the scoping document should be addressed to the Gulf of Mexico Fishery Management Council, 3018 U.S. Highway 301, North, Suite 1000, Tampa, FL 33619; telephone: (813) 228-2815. Comments may be sent by e-mail to gulfcouncil@gulfcouncil.org. A copy of the scoping document can also be obtained from the Council's web page: http://www.gulfcouncil.org.

FOR FURTHER INFORMATION CONTACT: Wayne Swingle, Executive Director, Gulf of Mexico Fishery Management Council; telephone: (813) 228-2815.

SUPPLEMENTARY INFORMATION: The Council will hold 10 hearings on a scoping document to solicit public input on the alternative that should be used for an amendment that will create an individual fishing quota (IFQ) program for the commercial red snapper fishery. The scoping document presented at the hearings will consist of the following two parts: the first part includes a section on vessel monitoring systems (VMS) with alternatives for requiring (or not requiring) participants in the red snapper IFQ program to have VMS to enhance the enforceability of the IFQ program, the second and principal part of the scoping document is an IFQ profile which contains numerous alternatives for structuring the IFQ program. The Council is soliciting public comment on alternatives that it should consider in developing the IFQ program. Persons with commercial reef fish licenses will be mailed a copy of the scoping document.

Scoping Hearings

The scoping hearings will be held at the following locations and dates beginning at 7 p.m. and concluding no later than 10 p.m.:

1. Wednesday, August 11, 2004, Harrah's Lake Charles Casino Hotel, 505 North Lakeshore Drive, Lake Charles, LA 70601; telephone: 337-437-1546;

2. Thursday, August 12, 2004, Holiday Inn Houma, 210 South Hollywood Road, Houma, LA 70360; telephone: 877-800-9383;

3. Friday, August 13, 2004, New Orleans Airport Hilton, 901 Airline Drive, Kenner, LA 70062; telephone: 504-469-5000;

4. Monday, August 16, 2004, Holiday Inn Emerald Beach, 1102 South Shoreline Boulevard, Corpus Christi, TX 78401; telephone: 361-883-5731;

5. Tuesday, August 17, 2004, Palacios Recreation Center, 2401 Perryman, Palacios, TX 77465; telephone: 361-972-2387;

6. Wednesday, August 18, 2004, San Luis Resort, 5222 Seawall Boulevard, Galveston Island, TX 77551; telephone: 409-740-8616;

7. Monday, August 23, 2004, MS Department of Marine Resources, 1141 Bayview Drive, Biloxi, MS 39530; telephone: 228-374-5000;

8. Tuesday, August 24, 2004, Perdido Beach Resort, 27200 Perdido Beach Boulevard, Orange Beach, AL 36561; telephone: 251-981-9811;

9. Monday, August 30, 2004, National Marine Fisheries Service, 3500 Delwood Beach Road, Panama City, FL 32408; telephone: 850-234-6541; and

10. The time, date, and location of this meeting will be published in the Federal Register.

These meetings are physically accessible to people with disabilities. Requests for sign language interpretation or other auxiliary aids should be directed to Dawn Aring at the Council (see ADDRESSES) by July 28, 2004.

Dated: July 20, 2004.
Alan D. Risenhoover,
Acting Director, Office of Sustainable Fisheries, National Marine Fisheries Service.

[FR Doc. 04-16960 Filed 7-23-04; 8:45 am]

BILLING CODE 3510-22-S